ENVIRONMENTAL PROTECTION AGENCY

40 CFR Part 52

[EPA-R05-OAR-2008-0032; FRL-9449-9]

Approval and Promulgation of Air Quality Implementation Plans; Ohio; Reasonably Available Control Technology, Oxides of Nitrogen, Cleveland Ozone Non-Attainment

AGENCY: Environmental Protection Agency (EPA).

ACTION: Proposed rule.

SUMMARY: EPA is proposing to approve, under the Clean Air Act (CAA), revisions to the Ohio State Implementation Plan (SIP) submitted on January 3, 2008 and June 1, 2011. These revisions incorporate provisions related to the implementation of nitrogen oxides (NOX) Reasonably Available Control Technology (RACT) for major sources in the former Cleveland-Akron-Lorain moderate ozone nonattainment area. These rules are not required because, as established in section 182(f) of the CAA, NOX emission control requirements do not apply if the resulting emission reductions are not needed to demonstrate attainment of the 8-hour ozone standard, which is the case for the former Cleveland-Akron-Lorain moderate ozone nonattainment area. However, these rules are being submitted and approved for their SIP strengthening effect as the control requirements in the submitted rules result in a RACT level of control.

DATES: Comments must be received on or before September 8, 2011.

ADDRESSES: Submit your comments, identified by Docket ID No. EPA-R05-OAR-2008-0032, by one of the following methods:

• http://www.regulations.gov: Follow the on-line instructions for submitting comments.

• E-mail: mooney.john@epa.gov.

• Fax: (312) 692-2511.

• Mail: John Mooney, Chief, Air Programs Branch (AR-18J), U.S. Environmental Protection Agency, 77 West Jackson Boulevard, Chicago, Illinois 60604.

• Hand Delivery: John Mooney, Chief, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2008-0032. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment.

If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to section I of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy.

Publicly available docket materials are available either electronically in http://www.regulations.gov or in hard copy at the Environmental Protection Agency, Region 5, Air and Radiation Division, 77 West Jackson Boulevard, Chicago, Illinois 60604. This Facility is open from 8:30 a.m. to 4:30 p.m., Monday through Friday, excluding Federal holidays. We recommend that you telephone Steven Rosenthal, Environmental Engineer, at (312) 886-6052 before visiting the Region 5 office.

FOR FURTHER INFORMATION CONTACT: Steven Rosenthal, Environmental Engineer, Attainment Planning and Maintenance Section, Air Programs Branch (AR-18J), U.S. Environmental Protection Agency, Region 5, 77 West Jackson Boulevard, Chicago, Illinois 60604, (312) 886-6052, Rosenthal.steven@epa.gov.

SUPPLEMENTARY INFORMATION: Throughout this document whenever “we,” “us,” or “our” is used, we mean EPA. This supplementary information section is arranged as follows:

I. What should I consider as I prepare my comments for EPA?

II. What action is EPA taking today and what is the purpose of this action?

III. What is EPA's analysis of Ohio's NOX RACT rule?

IV. Statutory and Executive Order Reviews

I. What should I consider as I prepare my comments for EPA?

1. Identify the rulemaking by docket number and other identifying information (subject heading, Federal Register date and page number).

2. Follow directions—EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What action is EPA taking today and what is the purpose of this action?

EPA is proposing to approve Ohio's new rule for the control of NOX into the Ohio SIP. This rule, Ohio Administrative Code (OAC) 3745-110 “Nitrogen Oxides—Reasonably Available Control Technology,” was submitted to EPA on January 3, 2008, and June 1, 2011. This rule consists of the following sections: OAC 3745-110-01 “Definitions,” OAC 3745-110-02 “Applicability,” OAC 3745-21-110 “RACT requirements and/or limitations for emissions of NOX from stationary sources,” OAC 3745-11-04 “Compliance deadlines,” and OAC 3745-110-05 “Compliance methods.”

The CAA amendments of 1990 introduced the requirement for existing major (100 tons per year in moderate nonattainment areas) stationary sources of NOX in nonattainment areas to install and operate NOX RACT. Specifically, section 182(f) establishes NOX emission control requirements for ozone nonattainment areas. It provides that these emission control requirements, however, do not apply to an area if the Administrator determines that NOX emission reductions would not contribute to attainment of the ozone standard. EPA's January 2005 document, “Guidance on Limiting Nitrogen Oxides Requirements Related to 8-Hour Ozone Implementation,” provides guidance for demonstrating that further NOX reduction in an ozone nonattainment area will not contribute to ozone attainment. The guidance provides that three consecutive years of monitoring data showing attainment of the standard without implementation of section 182(f) NOX provisions is adequate to demonstrate that “additional reductions of oxides of nitrogen would not contribute to attainment * * *.” CAA section 182(f)(1)(A). As described in the guidance document, approval of this type of NOX exemption is contingent on continued monitored attainment of the standard.

On March 17, 2009, Ohio submitted a request for a waiver from the section 182(f) NOX requirements for the Cleveland-Akron-Lorain area based on monitoring data for the years 2006-2008 showing attainment of the 8-hour ozone standard in the area. Based on these data, EPA approved Ohio's request for an exemption from the section 182(f) NOX requirements in the Cleveland-Akron-Lorain area on September 15, 2009. Because of this NOX waiver the Ohio EPA is not required to adopt and implement NOX emission control regulations pursuant to section 182(f) for the Cleveland-Akron-Lorain area to qualify for redesignation. The waiver request notwithstanding, Ohio EPA submitted NOX RACT rules to EPA on January 3, 2008, and June 1, 2011, and has included NOX RACT in the list of contingency measures in the maintenance plan for the area.

III. What is EPA's analysis of Ohio's NOX RACT rule?

These NOX RACT rules are approvable because they are enforceable and, for the sources covered, meet all of EPA's requirements except for the compliance dates. As discussed above, these rules are not required because of the NOX waiver for the Cleveland-Akron-Loraine (former nonattainment) area. A discussion of these rules follows.

3745-110-01—Definitions

This section contains definitions that are necessary and appropriate for the remainder of Ohio's NOX RACT rule.

3745-110-02—Applicability

This rule identifies the categories of NOX sources subject to the control requirements in rule 3745-110-03. It applies to existing very large boilers (greater than 250 mmBtu/hr), large boilers (100 mmBtu/hr to 250 mmBTU/hr), mid-size boilers (50 mmBtu/hr to 100 mmBtu/hr), small boilers (20 to 50 mmBtu/hr), stationary combustion turbines and stationary internal combustion engines or to any stationary source of NOX that is located at a facility that emits or has the potential to emit over 100 tons per year of NOX emissions from all sources at the facility and the source is located in Ashtabula, Cuyahoga, Geauga, Lake, Lorain, Medina, Portage, or Summit County. The control requirements in rule 3745-110-03 also apply to new (after 1974) or modified very large boilers, large boilers, mid-size boilers, small boilers, stationary combustion turbines, and stationary internal combustion engines.

3745-110-03—RACT Requirements for Stationary Sources

This chapter contains control requirements for industrial boilers, stationary combustion turbines, and stationary internal combustion engines. The emission limits contained in this chapter for industrial boilers (provided below), stationary combustion turbines, and stationary internal combustion engines are consistent with EPA guidance (generally requiring combustion controls) and other state RACT evaluations.

(A) Small boilers.

The owner or operator of a small boiler must annually perform a tune-up and maintain, in a permanently bound log book, or other format approved in writing by the Director of Ohio EPA, the following information:

a) The date of the last tune-up;

b) The name, title and affiliation of the person who performed the tune-up and made any adjustments; and

c) Any other information which the Ohio environmental protection agency may require as a condition of approval of any permit for the boiler.

(B) Mid-size, large and very large boilers.

Except as otherwise provided in paragraphs (I) and (J) of this rule, on and after the compliance deadline specified by rule 3745-110-04 of the Administrative Code, no owner or operator of a mid-size, large, or very large boiler shall allow or permit the discharge into the ambient air of any NOX emissions in excess of the following:

Emissions Limitations
[Pounds of NOX Emissions per mmBtu]
Fuel type | Tangential-fired | Wall-fired | Cyclone-fired | Spreader stoker-fired | Overfeed stoker-fired
Gas Only | ¹ 0.10 | ¹ 0.10 | N/A | N/A | N/A
Distillate Oil | ¹ 0.12 | ¹ 0.12 | ¹ 0.12 | N/A | N/A
Residual Oil | ² 0.23 | ² 0.23 | ² 0.23 | N/A | N/A
Coal (Wet Bottom) | ² 0.30 | ² 0.30 | ² 0.30 | N/A | N/A
Coal (Dry Bottom) | ² 0.30 | ² 0.30 | ² 0.30 | ² 0.30 | ² 0.30
The NOX emission limitations for the boilers specified above may be achieved by employing the NOX emission control technologies specified below.
¹ low NOX burners (LNB)
² low NOX burners (LNB) in conjunction with flue gas recirculation (FGR) or over-fired air (OFA) as applicable.

This rule does not contain control requirements for electric generating units (EGUs). EPA's Cross-State Air Pollution Rule provides statewide, not unit specific, limits for EGUs. This rulemaking does not address whether unit specific limits are needed to satisfy RACT.

Ohio's rule allows an emission averaging program in lieu of the applicable emission limits for industrial boilers, stationary combustion turbines, and stationary internal combustion engines. However, Ohio's rule states that an emission averaging program shall not be Federally enforceable until EPA approves the program as part of the Ohio SIP. Any such averaging program would therefore have to be consistent with “Improving Air Quality with Economic Incentive Programs, EPA-452/R-01-001, January 2001.” Ohio's submittal includes no such averaging programs. EPA will review any such programs if and when submitted by Ohio.

This chapter also requires site-specific RACT evaluations (or RACT studies) for any applicable source that is not an industrial boiler, stationary combustion turbine, or stationary internal combustion engines. Site-specific RACT evaluations are also allowed for industrial boilers, stationary combustion turbines, and stationary internal combustion engines if the owner or operator claims that the applicable limit is economically unreasonable and/or technically infeasible. These RACT studies consist of a detailed engineering study to determine the technical and economic feasibility of reducing the NOX emissions and to define RACT for the source. Any definition of RACT and schedule of compliance shall be submitted to and approved by EPA as a revision of the Ohio SIP.

This chapter contains site-specific RACT requirements for four sources. Compliance for all of these sources is required by the effective date of the rule, which is May 12, 2011. These sources are:

(1) The Northeast Ohio Regional Sewer District—Southerly Wastewater Treatment Center in Cuyahoga Heights

This facility has two mid-sized natural gas fired boilers, with low NOX burners, for which the presumptive limit is 0.10 lb of NOX/mmBTU. The use of ultra low NOX burners was considered but rejected because they would only provide an additional 18 percent reduction and a cost-effectiveness of over $50,000 per ton of NOX removed. The requested limits of 0.15 lb of NOX/mmBTU, based upon the use of low-NOX burners, can therefore be reasonably considered to represent RACT for these boilers under these particular circumstances.

(2) ArcelorMittal Cleveland Inc.

ArcelorMittal has 12 emission units located at its facility which are not one of the specific source types with specified limits. A 0.35 lb/mmBTU limit for the three reheat furnaces at its Hot Strip Mill is based upon the installation of 240 low NOX burners which has resulted in a 51 percent reduction in NOX emission. The Continuous Galvanizing Line is equipped with a low NOX burner providing an estimated 50 percent NOX emission reduction resulting in an emission limit of 0.23 lb/mmBTU. The remaining emissions units burn natural gas or blast furnace gas as fuel and generate relatively low NOX emissions and are subject to limits from 0.06-0.10 lb/mmBTU. For the reasons provided above, the above limits can reasonably be considered to represent RACT under these particular circumstances.

(3) Republic Engineered Products

Republic Engineered products has 2 reheat furnaces at its facility which are not one of the specific source types with specified limits. These furnaces use low NOX burners with resulting emission limitations of 0.15 and 0.132 lb/mmBTU. These limits can reasonably be considered to represent RACT, under these particular circumstances, because the additional reductions that could be obtained with post-combustion controls are not cost-effective.

(4) United States Steel Lorain Tubular Operations

United States Steel Lorain Tubular Operations has several furnaces at its facility which are not one of the specific source types with specified limits. Emissions Units P003, P0037 and P040 are subject to limits of 0.068 lb/mmBTU, 0.15 lb/mmBTU and 0.15 lb/mmBTU. These limits are based upon the continued use of low NOX burners because post combustion controls are not cost-effective. RACT limits have not yet been established for Emission Units P035 and P039.

It should be noted that there are other subject sources for which RACT limits have not yet been established.

The emission limits specified in this rule are based upon either of the following:

(1) The average of three one-hour stack test runs if stack testing is used to demonstrate compliance; or

(2) A twenty-four-hour input-weighted average if a continuous emissions monitor is used to demonstrate compliance.

Both of these are accepted methods for determining the lbs of NOX/mmBTU.

3745-110-04 Compliance Deadlines

The effective date of this chapter is December 22, 2007. For facilities that have not conducted a RACT study, compliance is required by December 22, 2009, if combustion modifications are required to achieve compliance with the limits in 3745-21-03 or December 22, 2010, if add-on controls are required to demonstrate compliance.

For facilities conducting a RACT study, compliance is required by two years after approval by the Director of Ohio EPA if combustion modifications are required to demonstrate compliance. Compliance is required by three years after approval by the Director if add-on controls are needed to demonstrate compliance. The four facilities identified in the discussion of rule 3745-110-03, and for which RACT studies have been approved, were required to have achieved compliance by May 2, 2011.

The general emission limits for industrial boilers, stationary combustion turbines, and stationary internal combustion engines represent RACT. In addition, the limits for the four facilities resulting from RACT studies can reasonably be considered to represent RACT under the specified circumstances. It should be noted that there are other facilities for which RACT studies are being developed that are not currently complying with NOX RACT. EPA expects that Ohio will adopt and submit limits for those sources once the studies are complete, and EPA will evaluate those limits at that time. To the extent that the facilities are subject to specific limits under rule 3745-110-03, compliance with those limits is required now, unless and until a revised limit is approved.

EPA's November 29, 2005, “Final Rule To Implement the 8-Hour Ozone National Ambient Air Quality Standard—Phase 2” (70 FR 71612) required that compliance be achieved by March 2009. Rule 3745-110-04 provides for compliance dates after March 2009, but the compliance date has now passed for all sources that are subject to the NOX limits in this rule. Therefore, there is no longer any ozone air quality impact from allowing facilities to have compliance deadlines after 2009 (and there is also no way that these facilities can ever meet the March 2009 deadline). Finally, since Ohio is not currently required to adopt RACT rules, Ohio is not required to have RACT rules with a March 2009 compliance date.

3745-110-05 Compliance Methods

This rule requires that a source which is subject to the requirements of rule 3745-110-03 demonstrate compliance with the applicable emission limits by performing emission tests in accordance with EPA Method 7, 7A, 7C, 7D, or 7E, and any additional approved EPA methods as applicable.

Any continuous emissions monitoring system for NOX shall meet the requirements of Performance Specification 2, 40 CFR Part 60, Appendix B and quality assurance procedures contained in 40 CFR Part 60, Appendix F or 40 CFR Part 75.

These are the appropriate EPA approved methods for establishing compliance.

Conclusion

These rules are not required because, as established in section 182(f) of the CAA, NOX emission control requirements do not apply if the resulting emission reductions are not needed to demonstrate attainment of the 8-hour ozone standard, which is the case for the former Cleveland-Akron-Lorain moderate ozone nonattainment area. However, these rules are being submitted and approved for their SIP strengthening effect. In addition, EPA believes that the control requirements in the submitted rules mandate an acceptable RACT level of control.

As indicated above, these rules do not apply to EGUs. In addition, there are other otherwise applicable sources that are not subject to these rules because their RACT studies have not as yet been approved. Finally, compliance deadlines for some sources are later than the March 2009, deadline that was established in EPA's phase 2 guidance for areas required to adopt RACT rules pursuant to the 1997 8-hour ozone standard. However, EPA is satisfied that the limits for sources covered in Ohio's rule are RACT-level limits, and EPA finds the compliance dates acceptable given that the RACT requirements (and associated compliance deadline requirements) do not apply and given that in any case all sources are now required to be in compliance.

These rules are therefore being proposed for approval because they provide additional NOX control requirements and therefore strengthen the effectiveness of the SIP.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Nitrogen dioxide, Ozone, Reporting and recordkeeping requirements, Volatile organic compounds.

Dated: July 29, 2011.
Susan Hedman,
Regional Administrator, Region 5.

[FR Doc. 2011-20205 Filed 8-8-11; 8:45 am]

BILLING CODE 6560-50-P